DEPARTMENT OF TRANSPORTATION

Federal Highway Administration

[FHWA Docket No. FHWA-2016-0033]

Motorcyclist Advisory Council to the Federal Highway Administration

AGENCY: Federal Highway Administration (FHWA), DOT.

ACTION: Notice of extension of nomination deadline.

SUMMARY: The FHWA is announcing the extension of the deadline for nomination applications for the Motorcyclist Advisory Council (MAC) until April 15, 2017.

DATES: The deadline for nominations for MAC membership is extended to April 15, 2017.

ADDRESSES: All nomination materials should be emailed to MAC-FHWA@dot.gov or mailed attention to Mr. Michael Griffith, Federal Highway Administration, Office of Safety, Room E71-312, 1200 New Jersey Ave. SE., Washington, DC 20590. Any person needing accessibility accommodations should contact Michael Griffith at (202) 366-9469.

FOR FURTHER INFORMATION CONTACT: Mr. Michael Griffith, Office of Safety, (202) 366-9469 or MAC-FHWA@dot.gov; 1200 New Jersey Ave. SE., Washington, DC 20590; or Ms. Seetha Srinivasan, Office of the Chief Counsel—Legislation, Regulations, and General Law Division, 1200 New Jersey Avenue SE., Washington, DC 20590, (202) 366-4099 or Seetha.Srinivasan@dot.gov.

SUPPLEMENTARY INFORMATION: The FHWA published its notice establishing the MAC and soliciting nominations for MAC membership on January 9, 2017, at 82 FR 2436. This notice extends the deadline for submitting nomination applications to April 15, 2017. Interested parties should refer to the January 9th notice for application submission instructions.

Issued on: March 17, 2017.
Walter C. Waidelich, Jr.
Acting Deputy Administrator, Federal Highway Administration.

[FR Doc. 2017-05764 Filed 3-22-17; 8:45 am]

BILLING CODE 4910-22-P